DEPARTMENT OF TRANSPORTATION

Federal Motor Carrier Safety Administration

[Docket No. FMCSA-2005-23459]

Hours of Service of Drivers: National Ready Mixed Concrete Association Application for Exemption

AGENCY: Federal Motor Carrier Safety Administration (FMCSA), DOT.

ACTION: Notice of application for exemption; request for comments.

SUMMARY: FMCSA announces that it has received an application from the National Ready Mixed Concrete Association (NRMCA) for a 2-year exemption from certain provisions of the hours-of-service (HOS) rules for commercial motor vehicle (CMV) drivers. Under the exemption, drivers of ready-mixed concrete vehicles in designated areas would be allowed to operate under the 100 air-mile radius exception from the requirement to prepare records of duty status (RODS) provided they are released from work within 14 hours following 10 consecutive hours off duty. Additionally, NRMCA requests an exemption from the requirement that a CMV driver record his or her duty status for each 24-hour period using the methods prescribed in the HOS rules. NRMCA is requesting the exemption on behalf of ready-mixed concrete producers operating within a 100 air-mile radius, in interstate commerce, delivering to active construction sites in Alabama, Florida, Louisiana, Mississippi, and Texas. NRMCA states that approximately 800 drivers and the same number of ready-mixed concrete vehicles will operate under the requested exemption. NRMCA bases its request on the fact that many companies and their drivers are working to rebuild areas affected by the record number of hurricanes during the 2005 hurricane season. FMCSA requests public comment on NRMCA's application for exemption.

DATES: Comments must be received on or before August 17, 2006.

ADDRESSES: You may submit comments [identified by DOT DMS Docket No.FMCSA-2005-23459] using any of the following methods:

• Web Site: Go to http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this notice. Note that all comments received will be posted without change to http://dms.dot.gov including any personal information provided. Please see the Privacy Act heading for further information.

Docket: For access to the docket to read background documents or comments received, go to http://dms.dot.gov at any time or to Room PL-401 on the plaza level of the Nassif Building, 400 Seventh Street, SW., Washington, DC, between 9 a.m. and 5 p.m., Monday through Friday, except Federal holidays. The DMS is available 24 hours each day, 365 days each year. If you want to be notified that we received your comments, please include a self-addressed, stamped envelope or postcard or print the acknowledgement page that appears after submitting comments online.

Privacy Act: Anyone may search the electronic form of all comments received into any of DOT's dockets by the name of the individual submitting the comment (or of the person signing the comment, if submitted on behalf of an association, business, labor union, or other entity). You may review DOT's complete Privacy Act Statement in the Federal Register published on April 11, 2000 (65 FR 19477). This statement is also available at http://dms.dot.gov.

FOR FURTHER INFORMATION CONTACT: Mr. Thomas Yager, Division Chief, Driver and Carrier Operations Division (MC-PSD), Office of Bus and Truck Standards and Operations, phone (202) 366-4009, e-mail MCPSD@dot.gov.

SUPPLEMENTARY INFORMATION:

Background

Section 4007 of the Transportation Equity Act for the 21st Century (Pub. L. 105-178, June 9, 1998, 112 Stat. 107) amended 49 U.S.C. 31315 and 31136(e) to provide authority to grant exemptions from the motor carrier safety regulations. On August 20, 2004, FMCSA published a final rule (69 FR 51589) on section 4007. Under the regulations, FMCSA must publish a notice of each exemption request in the Federal Register (49 CFR 381.315(a)). FMCSA must provide the public with an opportunity to inspect the information relevant to the application, including any safety analyses that have been conducted, and it must provide an opportunity for public comment on the request.

FMCSA reviews the safety analyses and the public comments and determines whether granting the exemption would achieve a level of safety equivalent to or greater than the level that would be achieved by the current regulation (49 CFR 381.305). FMCSA's decision must be published in the Federal Register (49 CFR 381.315(b)). If FMCSA denies the request, it must state the reason for doing so. If FMCSA grants the exemption, the notice must specify the person or class of persons receiving the exemption and the regulatory provision or provisions from which exemption is being granted. The notice must also specify the effective period of the exemption (up to 2 years) and explain the terms and conditions of the exemption. The exemption may be renewed (49 CFR 381.300(b)).

Application for Exemption

NRMCA seeks an exemption from the requirement for drivers to prepare RODS. The exemption would apply to ready-mixed concrete drivers that operate within 100 air-miles of the drivers' normal work reporting location, return to the work reporting location, and are released from work within 14 hours. Currently, 49 CFR 395.1(e)(1) provides an exception from the RODS requirement for drivers operating within 100 air-miles but returning within 12 hours. The request is limited to holders of Class A or B commercial driver's licenses and to interstate deliveries to active construction sites in Alabama, Florida, Louisiana, Mississippi, and Texas. Drivers' normal work reporting locations must also be in one of these States. The request is further limited to drivers who “* * * must deliver to active commercial, residential or local, state or federal construction sites * * *.” NRMCA indicated that approximately 800 drivers and the same number of ready-mixed concrete vehicles will be affected by the requested exemption. NRMCA bases its request on the fact that many companies and their drivers are working to rebuild areas affected by the record number of hurricanes during the 2005 hurricane season.

In addition, NRMCA requests that ready-mixed concrete drivers utilizing the requested exemption complete, and that motor carriers require such drivers to complete, an alternative time record that contains (1) The driver's name, (2) the date, (3) start time, (4) stop time, (5) total hours worked daily, (6) total hours for the week, (7) normal work reporting location, and (8) the driver's signature. This differs from the current requirement for time records for drivers using the 100 air-mile exception in 49 CFR 395.1(e)(1) by adding the requirement for the driver's signature.

NRMCA suggests that reducing the paperwork without diminishing public safety will benefit and facilitate ongoing rebuilding activities. It proposes, as a condition under the terms of the exemption, to select individual ready-mixed concrete producers and monitor the number of DOT-recordable accidents that occur among the producers, and it will report its findings to FMCSA. NRMCA requests the exemption extend for a period of two years from the date of approval.

A copy of NRMCA's application for exemption is available for review in the docket for this notice.

Request for Comments

In accordance with 49 U.S.C. 31315 and 31136(e), FMCSA requests public comment on NRMCA's application for exemption from 49 CFR 395.1(e). FMCSA will consider all comments received by close of business on August 17, 2006. Comments will be available for examination in the docket at the location listed under the Addresses section of this notice. FMCSA will file comments received after the comment closing date in the public docket and will consider them to the extent practicable. In addition to late comments, FMCSA will also continue to file in the public docket relevant information that becomes available after the comment closing date. Interested persons should monitor the public docket for new material.

Issued on: July 10, 2006.
David H. Hugel,
Acting Administration.

[FR Doc. E6-11289 Filed 7-17-06; 8:45 am]

BILLING CODE 4910-EX-P